DEPARTMENT OF DEFENSE

Department of the Navy

Notice of Intent To Prepare a Supplemental Environmental Impact Statement/Overseas Environmental Impact Statement for Pacific Surveillance Towed Array Sensor System Low Frequency Active Sonar Training and Testing

AGENCY: Department of the Navy (DoN), Department of Defense (DoD).

ACTION: Notice.

SUMMARY: Pursuant to the National Environmental Policy Act (NEPA) of 1969, and regulations implemented by the Council on Environmental Quality, the Department of the Navy (Navy) announces its intent to prepare the Pacific Surveillance Towed Array Sensor System Low Frequency Active Sonar Training and Testing (PAC SURTASS LFA) Supplemental Environmental Impact Statement/Overseas EIS (SEIS/OEIS). The PAC SURTASS LFA SEIS/OEIS will include an analysis of training activities, as well as research, development, testing, and evaluation activities (hereafter referred to as “testing”) that will be conducted in the PAC SURTASS LFA Study Area. The Navy is initiating a 30-day public scoping process to receive comments on the scope of the SEIS/OEIS including identification of potential alternatives and environmental concerns, information and analyses relevant to the Proposed Action, and issues the public would like to see addressed in the SEIS/OEIS.

DATES: The 30-day public scoping period begins on August 21, 2024 and extends to September 19, 2024. Comments must be postmarked or submitted electronically via the website no later than 11:59 p.m. Pacific Time on September 19, 2024 for consideration in the Draft SEIS/OEIS.

FOR FURTHER INFORMATION CONTACT: U.S. Pacific Fleet Command, Attn: Ms. Heather Paynter, Environmental Public Affairs Specialist, by telephone (808-471-3769) or email (CPF-Environmental-PA@us.navy.mil), or visit the project website: https://www.nepa.navy.mil/surtass-lfa/.

SUPPLEMENTARY INFORMATION: SEIS-007-17-USN-1723661233. Commander, U.S. Pacific Fleet is the Navy's lead action proponent, with Naval Sea Systems Command acting as an additional Navy action proponent.

In continuance of the Navy's commitment to responsible stewardship of the marine environment and building upon analyses and information included in the Navy's 2001 Final Environmental Impact Statement (EIS)/OEIS, 2007 Final SEIS, 2012 Final SEIS/Supplemental OEIS (SOEIS), 2015 Final SEIS/SOEIS, and 2019 Final SEIS/SOEIS, the Navy intends to prepare an updated supplemental assessment of the environmental effects associated with the continued employment of SURTASS LFA sonar systems. The SEIS/OEIS and associated analysis will be used to support consultations associated with expiring regulatory permits and authorizations in 2026.

The PAC SURTASS LFA Study Area (hereafter referred to as the (“Study Area”) is comprised of the western North Pacific and Indian Oceans. For the purposes of analyzing the impacts of SURTASS LFA sonar systems on marine mammals, fifteen representative locations were considered for acoustic modeling.

The Navy proposes to continue employing up to four SURTASS LFA sonar systems onboard U.S. Navy surveillance ships for routine training and testing in the Study Area with certain geographical restrictions and other preventive measures designed to mitigate adverse effects on the marine environment. As part of the SEIS/OEIS analyses, the Navy will continue to assess potential impacts of SURTASS LFA sonar systems to offshore biologically important areas (OBIAs). Effectiveness of the mitigation measures that are the foundation of the Navy's operation of SURTASS LFA sonar will also be re-assessed in the context of new technologies and methodologies as well as operational practicability.

The Navy has identified two preliminary action alternatives to carry forward for analysis in the SEIS/OEIS along with the No Action Alternative. Alternative 1 reflects the minimum number of SURTASS LFA sonar transmission hours per year needed to meet the Navy's purpose and need, while Alternative 2 reflects the number of hours accounting for the possible need to deploy two additional SURTASS LFA-equipped vessels (increase from four vessels to six). As required by NEPA for the purpose of establishing a baseline for analysis, a No Action Alternative will be evaluated which represents a scenario where training and testing with SURTASS LFA sonar would not be conducted in the Study Area.

Environmental resources that are determined to be potentially affected are carried forward for full analysis. Resources to be evaluated include, but are not limited to, biological resources (including marine mammals, reptiles, fishes, and habitats), sediments and water quality, air quality, and socioeconomic resources. Some other environmental resources have been analyzed in previous SURTASS LFA NEPA/E.O. 12114 documents and are incorporated by reference moving forward. The SEIS/OEIS will also analyze measures that would avoid, minimize, or mitigate environmental effects. The Navy will conduct all coordination and consultation activities required by the Marine Mammal Protection Act (MMPA), Endangered Species Act (ESA), and other laws and regulations determined to be applicable to the project. As part of this process, the Navy will seek the issuance of regulatory permits and authorizations under MMPA and ESA to support at-sea mission readiness activities within the Study Area, beginning in August 2026.

Pursuant to 40 CFR 1501.8, the Navy invited the National Marine Fisheries Service to be a cooperating agency in preparation of the SEIS/OEIS. On August 7, 2024 National Marine Fisheries Service agreed to be a cooperating agency.

The scoping process invites comments on the scope of the SEIS/OEIS including identification of potential alternatives, information and analyses relevant to the Proposed Action, identification of environmental concerns, and issues the public would like to see addressed in the SEIS/OEIS. Federal agencies, state agencies, local agencies, Tribal Organizations, the public, and interested persons are encouraged to provide comments.

Comments must be postmarked or submitted electronically via the website no later than 11:59 p.m. Pacific Time on September 19, 2024 for consideration during the development of the Draft SEIS/OEIS. Comments can be submitted electronically via the project website at https://www.nepa.navy.mil/surtass-lfa/.

After the scoping period, Navy will coordinate with participating and cooperating agencies to develop a Draft SEIS/OEIS. The Navy intends to release the Draft SEIS/OEIS in the spring of 2025, release the Final SEIS/OEIS in the winter of 2026, and sign a Record of Decision following the 30-day Final SEIS/OEIS wait period.

Dated: August 14, 2024.
A.J. Gioiello,
Lieutenant Commander, Judge Advocate General's Corps, U.S. Navy, Federal Register Liaison Officer.

[FR Doc. 2024-18573 Filed 8-20-24; 8:45 am]

BILLING CODE 3810-FF-P